MEDICARE PAYMENT ADVISORY COMMISSION

Commission Meeting

AGENCY: Medicare Payment Advisory Commission.

ACTION: Notice of meeting.

SUMMARY: The Commission will hold its next public meeting on Thursday, March 20, 2003, and Friday, March 21, 2003, at the Ronald Reagan Building, International Trade Center, 1300 Pennsylvania Avenue, NW., Washington, DC. The meeting is tentatively scheduled to begin at 9 a.m. on March 20, and at 9 a.m. on March 21.

Topics for discussion include: Medicare payment for prescription drugs under part B; volume of physician services and related physician payment issues; hospital financial performance; incentives to improve quality; alternatives to administered pricing; geographic variation; workplan and analysis of supplemental coverage in state-level markets; long-term care hospital patient characteristics; examining differences between hospital-based and free-standing skilled nursing facilities; overview of the post-acute care episode database; dialysis quality and cost; and the supply of geriatricians.

Agendas will be e-mailed on March 13, 2003. The final agenda will be available on the Commission's Web site (www.MedPAC.gov).

ADDRESSES: MedPAC's address is: 601 New Jersey Avenue, NW., Suite 9000, Washington, DC 20001. The telephone number is (202) 220-3700.

FOR FURTHER INFORMATION CONTACT: Diane Ellison, Office Manager, (202) 220-3700.

Mark E. Miller
Executive Director.

[FR Doc. 03-5608 Filed 3-7-03; 8:45 am]

BILLING CODE 6820-BW-M